OVERSEAS PRIVATE INVESTMENT CORPORATION

December 8, 2008 Public Hearing

OPIC's Sunshine Act notice of its Public Hearing in Conjunction with each Board meeting was published in the Federal Register (Volume 73, Number 234, Page 73973) on December 4, 2008. No requests were received to provide testimony or submit written statements for the record; therefore, OPIC's public hearing scheduled for 2 PM, December 8, 2008 in conjunction with OPIC's December 11, 2008 Board of Directors meeting has been cancelled.

Contact Person for Information: Information on the hearing cancellation may be obtained from Connie M. Downs at (202) 336-8438, via facsimile at (202) 218-0136, or via e-mail at Connie.Downs@opic.gov.

Dated: December 8, 2008.
Connie M. Downs,
OPIC Corporate Secretary.

[FR Doc. E8-29432 Filed 12-9-08; 11:15 am]

BILLING CODE 3195-01-P